INTERNATIONAL TRADE COMMISSION

[Investigation No. 337-TA-1400]

Certain Cameras, Camera Systems, and Accessories Used Therewith; Notice of Commission Determination To Review in Part a Final Initial Determination of Violation of Section 337; Schedule for Filing Written Submissions on Certain Issues Under Review and on Remedy, the Public Interest, and Bonding

AGENCY: U.S. International Trade Commission.

ACTION: Notice.

SUMMARY: Notice is hereby given that the U.S. International Trade Commission has determined to review in part a final initial determination (“Final ID”) issued by the presiding administrative law judge (“ALJ”) finding a violation of section 337 of the Tariff Act of 1930. The Commission requests briefing from the parties on certain issues under review and from the parties, interested government agencies, and interested persons on remedy, the public interest, and bonding based on the schedule set forth below.

FOR FURTHER INFORMATION CONTACT: Robert Needham, Office of the General Counsel, U.S. International Trade Commission, 500 E Street SW, Washington, DC 20436, telephone (202) 708-5468. Copies of non-confidential documents filed in connection with this investigation may be viewed on the Commission's electronic docket (EDIS) at https://edis.usitc.gov. For help accessing EDIS, please email EDIS3Help@usitc.gov. General information concerning the Commission may also be obtained by accessing its internet server at https://www.usitc.gov. Hearing-impaired persons are advised that information on this matter can be obtained by contacting the Commission's TDD terminal on (202) 205-1810.

SUPPLEMENTARY INFORMATION: The Commission instituted the above-captioned investigation on May 6, 2024, based on a complaint filed by GoPro, Inc. of San Mateo, California (“GoPro”). 89 FR 37242-43 (May 6, 2024). The complaint alleged a violation of section 337 based upon the importation into the United States, the sale for importation, and the sale within the United States after importation of certain cameras, camera systems, and accessories used therewith by reason of the infringement of claims 1-12 of U.S. Patent No. 10,015,413 (“the '413 patent”); claims 1-10 of U.S. Patent No. 10,529,052 (“the '052 patent”); claims 1-20 of U.S. Patent No. 10,574,894 (“the '894 patent”); claims 1-21 of U.S. Patent No. 10,958,840 (“the '840 patent”); claims 1-10 of U.S. Patent No. 11,336,832 (“the '832 patent”); and the claim of U.S. Design Patent No. D789,435 (“the D'435 patent”). Id. at 37243. The complaint further alleged that an industry in the United States exists. Id. The notice of investigation named as respondents Arashi Vision Inc. d/b/a Insta360 of Shenzhen, China, and Arashi Vision (U.S.) LLC d/b/a Insta360 of Irvine, California (collectively, “Insta360”). Id. The Office of Unfair Import Investigations is not a party to the investigation. Id.

GoPro terminated the investigation based on partial withdrawals of the complaint with respect to claims 2-12 of the '413 patent; claims 3, 4, and 7-10 of the '052 patent; claims 2-4 and 6-20 of the '894 patent; claims 1-12 and 15-21 of the '840 patent; and claims 1-3, 5-7, 9, and 10 of the '832 patent. Order No. 9 (Sept. 30, 2024), unreviewed by Comm'n Notice (Oct. 25, 2024); Order No. 24 (Jan. 13, 2025), unreviewed by Comm'n Notice (Jan. 31, 2025). Accordingly, at the time of the Final ID, GoPro asserted infringement of the following claims: claim 1 of the '413 patent; claims 1, 2, 5, and 6 of the '052 patent; claims 1 and 5 of the '894 patent; claims 13 and 14 of the '840 patent; claims 4 and 8 of the '832 patent; and the single claim of the D'435 patent.

On December 13, 2024, the parties stipulated that the importation requirement was satisfied for all accused products. Importation Stipulation Between Complainant and Respondents (Dec. 13, 2024). On January 21, 2025, the Commission found that GoPro satisfied the economic prong of the domestic industry requirement for all six asserted patents. Order No. 18 (Dec. 19, 2024), unreviewed by Comm'n Notice (Jan. 21, 2025). The ALJ held an evidentiary hearing from January 13 to 17, 2025.

On July 11, 2025, the ALJ issued the Final ID finding a violation of section 337 by Insta360 with respect to D'435 and no violation with respect to the five utility patents. Final ID at 274-75. Specifically, the Final ID found: (1) claims 1 and 5 of the '894 patent were not infringed, were not invalid, and were satisfied for the technical prong of the domestic industry requirement; (2) claims 13 and 14 of the '840 patent were not infringed, claim 13 was not invalid but claim 14 was invalid, and claims 13 and 14 were satisfied for the technical prong; (3) claims 4 and 8 of the '832 patent were infringed, were invalid, and were satisfied for the technical prong; (4) claims 1, 2, 5, and 6 of the '052 patent were infringed (for the wide-angle lens products only), were invalid, and were satisfied for the technical prong; (5) claim 1 of the '413 was not infringed, was invalid, and was satisfied for the technical prong; and (6) the claim of D'413 was infringed, was not invalid, and was satisfied for the technical prong. Id.

The ALJ also issued a recommended determination (“RD”) on remedy and bond. If the Commission were to find a violation, the ALJ recommends that the Commission issue a limited exclusion order against covered articles imported by or on behalf of the Insta360 respondents and a cease and desist order against the domestic respondent—Arashi Vision (U.S.) LLC d/b/a Insta360—based on an undisputed commercially significant inventory of accused products. RD at 275-77. The ALJ also recommends setting the bond at zero percent of the entered value of the covered articles because the price differential analysis shows that the domestic industry GoPro products cost less than the accused Insta360 products. Id. at 277-82.

On July 25, 2025, GoPro filed a petition for review of the Final ID's findings of no violation for all five utility patents, and a contingent petition for review on certain issues regarding the design patent. Also on July 25, 2025, Insta360 filed a petition for review of the Final ID's finding of violation of the design patent, and a contingent petition for review on certain issues regarding four of the utility patents. On August 4, 2025, GoPro and Insta360 opposed each other's petitions.

On July 15, 2025, the Commission requested comments from the public and interested government agencies regarding any public interest issues raised by the ALJ's RD. See 90 FR 31679 (Jul. 15, 2025). The Commission received comments from U.S. Representatives Kevin Mullin, John Moolenaar, and Raja Krishnamoorthi. The Commission also received comments from GoPro and Insta360 pursuant to Commission Rule 210.50(a)(4). 19 CFR 210.50(a)(4).

Having examined the record of this investigation, including the Final ID, the petitions for review, and the responses thereto, the Commission has determined to review the Final ID in part as to the '840 patent, '052 patent, and D'435 patent. Specifically, the Commission has determined to review the following issues: (1) the Final ID's findings relating to the limitation “determine a smoothed trajectory of the housing based on a look-ahead of the trajectory and one or more of a weight-balance parameter, a low-light high-pass parameter, and/or a stickiness parameter” (Element 1[g(i)]) of claim 1 and the additional limitations of claim 14 for the '840 patent; (2) the Final ID's findings relating to the limitation “wherein the output images include the sub-frames remapped from the input lens distortion centered in the fields of view of the input images to the desired lens distortion centered in the reduced fields of view to transform the different lens distortion effects present in the sub-frames to the desired lens distortion such that portions of the scene depicted in the sub-frames appear to have been captured using the reduced fields of view” (Element 1[g]) of the '052 patent; (3) the Final ID's findings regarding invalidity of the asserted claims of the '052 patent in view of Okubo U.S. Patent App. Pub. No. 2006/0017817; and (4) the Final ID's infringement findings for the D'435 patent. The Commission declines to review the remainder of the issues in the Final ID, including the findings of no violation for the '894, '832, and '413 patents. The Commission also notes that it will reconsider the domestic industry findings discussed in Order No. 18 (Dec. 19, 2024), unreviewed by Comm'n Notice (Jan. 21, 2025).

In connection with its review, the Commission is interested in responses to the following question. The parties are requested to brief their positions with reference to the applicable law, the existing evidentiary record, and the parties' submissions during the investigation.

1. Relying on the existing evidentiary record and the applicable law, please explain in detail whether the accused products infringe the D'435 patent. As a part of that explanation, please explain the legal significance of the accused products' pivoting rear screen and its ability to be in multiple positions. Please explain how your reply to this question relates to the arguments made before the ALJ.

In answering the above briefing question, the parties should specifically point to where in their arguments before the ALJ and in their petitions for review these issues were addressed and the corresponding record evidence discussed. In seeking briefing on these issues, the Commission will not excuse any party's noncompliance with Commission rules and the ALJ's procedural requirements, including requirements to present issues and arguments in submissions to the ALJ and/or in petitions for Commission review. Any such attempts will be regarded as waived. The parties are invited to brief only the discrete issues requested above. The parties are not to brief other issues on review, which are adequately presented in the parties' existing filings.

In connection with the final disposition of this investigation, the statute authorizes issuance of, inter alia, (1) an exclusion order that could result in the exclusion of the subject articles from entry into the United States; and/or (2) cease and desist orders that could result in the respondents being required to cease and desist from engaging in unfair acts in the importation and sale of such articles. Accordingly, the Commission is interested in receiving written submissions that address the form of remedy, if any, that should be ordered. If a party seeks exclusion of an article from entry into the United States for purposes other than entry for consumption, the party should so indicate and provide information establishing that activities involving other types of entry either are adversely affecting it or likely to do so. For background, see Certain Devices for Connecting Computers via Telephone Lines, Inv. No. 337-TA-360, USITC Pub. No. 2843, Comm'n Op. at 7-10 (Dec. 1994).

The statute requires the Commission to consider the effects of that remedy upon the public interest. The public interest factors the Commission will consider include the effect that an exclusion order and cease and desist orders would have on: (1) the public health and welfare, (2) competitive conditions in the U.S. economy, (3) U.S. production of articles that are like or directly competitive with those that are subject to investigation, and (4) U.S. consumers. The Commission is therefore interested in receiving written submissions that address the aforementioned public interest factors in the context of this investigation.

Parties are also invited to address the following issues regarding Insta360's request for warranty and repair exemption, as appropriate:

(a) What is the rationale for providing an exemption, either under the Commission's broad remedial discretion or under the public interest factors? Please provide available factual evidence in support, including any not currently on the record.

(b) What are the warranty terms, if any, for the merchandise in question?

(c) Should the exemption apply only to merchandise under warranty, or to all needed service and repair?

(d) Should the exemption cover only parts for service/repair, or should it also allow complete replacement of merchandise?

(e) What should the temporal cutoff be for the exemption, e.g., should the operative date be the issuance of the Commission's final determination or the end of the Presidential review period, and should it apply to merchandise sold prior to such date or imported prior to such date?

If the Commission orders some form of remedy, the U.S. Trade Representative, as delegated by the President, has 60 days to approve, disapprove, or take no position on the Commission's action. See Presidential Memorandum of July 21, 2005, 70 FR 43251 (July 26, 2005). During this period, the subject articles would be entitled to enter the United States under bond, in an amount determined by the Commission and prescribed by the Secretary of the Treasury. The Commission is therefore interested in receiving submissions concerning the amount of the bond that should be imposed if a remedy is ordered.

Written Submissions: The Commission requests that the parties to the investigation file written submissions on the issues identified in this notice. Parties to the investigation, interested government agencies, and any other interested parties are encouraged to file written submissions on the issues of remedy, the public interest, and bonding. Such submissions should address the recommended determination by the ALJ on remedy and bonding, which issued on July 10, 2025.

In its initial submission, Complainant is also requested to identify the remedy sought and to submit proposed remedial orders for the Commission's consideration. Complainant is further requested to provide the HTSUS subheadings under which the accused products are imported and to supply the identification information for all known importers of the products at issue in this investigation. All initial written submissions, from the parties and/or third parties/interested government agencies, and proposed remedial orders from the parties must be filed no later than close of business on September 25, 2025. All reply submissions must be filed no later than the close of business on October 2, 2025. Opening submissions from the parties are limited to 50 pages. Reply submissions from the parties are limited to 30 pages. All submission from third parties and/or interested government agencies are limited to 10 pages. No further submissions on any of these issues will be permitted unless otherwise ordered by the Commission.

Persons filing written submissions must file the original document electronically on or before the deadlines stated above pursuant to 19 CFR 210.4(f). Submissions should refer to the investigation number (Inv. No. 337-TA-1400) in a prominent place on the cover page and/or the first page. (See Handbook for Electronic Filing Procedures, https://www.usitc.gov/documents/handbook_on_filing_procedures.pdf). Persons with questions regarding filing should contact the Secretary, (202) 205-2000.

Any person desiring to submit a document to the Commission in confidence must request confidential treatment by marking each document with a header indicating that the document contains confidential information. This marking will be deemed to satisfy the request procedure set forth in Rules 201.6(b) and 210.5(e)(2) (19 CFR 201.6(b) & 210.5(e)(2)). Documents for which confidential treatment by the Commission is properly sought will be treated accordingly. A redacted non-confidential version of the document must also be filed simultaneously with any confidential filing. All information, including confidential business information and documents for which confidential treatment is properly sought, submitted to the Commission for purposes of this investigation may be disclosed to and used: (i) by the Commission, its employees and Offices, and contract personnel (a) for developing or maintaining the records of this or a related proceeding, or (b) in internal investigations, audits, reviews, and evaluations relating to the programs, personnel, and operations of the Commission including under 5 U.S.C. Appendix 3; or (ii) by U.S. government employees and contract personnel, solely for cybersecurity purposes. All contract personnel will sign appropriate nondisclosure agreements. All nonconfidential written submissions will be available for public inspection on EDIS.

The Commission vote for this determination took place on September 11, 2025.

The authority for the Commission's determination is contained in section 337 of the Tariff Act of 1930, as amended (19 U.S.C. 1337), and in part 210 of the Commission's Rules of Practice and Procedure (19 CFR part 210).

By order of the Commission.
Issued: September 11, 2025.
Susan Orndoff,
Supervisory Attorney.

[FR Doc. 2025-17827 Filed 9-15-25; 8:45 am]

BILLING CODE 7020-02-P